ENVIRONMENTAL PROTECTION AGENCY

[ER-FRL-6681-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060204, ERP No. D-AFS-L65512-OR, Mt. Hood National Forest and Columbia River Gorge National Scenic Area, Site-Specific Invasive Plant Treatments, Forest Plan Amendments #16, Mt. Hood National Forest and Columbia River Gorge National Scenic Area, Clackamas, Hood River, Multnomah and Wasco Counties, OR.

Summary: EPA expressed environmental concerns about the mix of options presented in the DEIS for controlling invasive, and suggested there be more consideration of IPM, biological controls and the use of prescribed fire and careful consideration when using herbicides.

Rating EC1.

EIS No. 20060218, ERP No. D-FHW-C40167-NY, Williamsville Toll Barrier Improvement Project, Improvements from New York Thruway, Interstate 90 between Interchange 48A and 50, Funding, Erie and Genesee Counties, NY.

Summary: EPA has environmental concerns about wetlands and water quality impacts, and recommends an expanded cumulative effects analysis.

Rating EC2.

EIS No. 20060239, ERP No. D-NPS-L65515-WA, Olympic National Park General Management Plan, Implementation, Clallam, Grays Harbor, Jefferson and Mason Counties, WA.

Summary: While EPA has no objections to the proposed action, but requested that future monitoring include more quantitative measures of water quality.

Rating LO.

EIS No. 20060286, ERP No. D-BLM-L65518-ID, Eastside Township Fuels and Vegetation Project, Address the Forest Health, Fuels, Safety, and Watershed Issues, Elk City, Idaho County, ID.

Summary: EPA expressed environmental concerns about water quality impacts, and requested that the assessment of cumulative impacts include other watershed restoration activities.

Rating EC1.

EIS No. 20060345, ERP No. D-AFS-L65521-WA, Buckhorn Access Project, To Utilize the Marias Creek Route to Construct and Reconstruct Roads, Funding, NPDES Permit and U.S. Army COE Section 404 Permit, Okanogan and Wenatchee National Forests, Tonasket Ranger District, Okanogan County, WA.

Summary: EPA expressed environmental concerns about water resource impacts, and requested that information about water resources be updated. EPA is also expressed concern about monitoring and mitigation issues.

Rating EC2.

EIS No. 20060347, ERP No. D-BLM-L70014-ID, Cottonwood Resource Management Plan, Implementation, Latah, Clearwater, Nez Perce, Lewis, Idaho and Adams Counties, ID.

Summary: EPA expressed environmental concerns about water quality/source water protection impacts and monitoring/maintaining old growth forest habitat. EPA supports the higher level of resource protection and improvement activities described in Alternative C.

Rating EC2.

EIS No. 20060372, ERP No. D-COE-F67004-MN, East Reserve Project, Construct and Operate an Open Pit Taconite Mine between the Towns of Biwabik and McKinley, St. Louis County, MN.

Summary: EPA expressed environmental objections to potential environmental impacts and requested additional analysis regarding project alternatives, wetland mitigation, water quality impacts, cumulative effects, impacts to Tribal rights, and impacts from the potential presence of asbestos and asbestiform material.

Rating EO2.

EIS No. 20060383, ERP No. D-NPS-E61078-00, South Florida and Caribbean Parks Exotic Plant Management Plan, Manage and Control Exotic Plants in Nine Parks, Five in South Florida Parks: Big Cypress National Preserve, Biscayne National Park, Canaveral National Seashore, Dry Tortugas National Park, Everglades National Park and Four in Caribbean Parks: Buck Island Reef National Monument, Christiansted National Historic Site, Salt River Bay National Historic Park and Ecological Preserve and Virgin Islands National Park, Florida and Caribbean.

Summary: EPA does not object to the Preferred Alternative© as the most effective solution for controlling invasive plant species, and recommended monitoring to determine if pesticide residues are accumulating in selected indicator species.

Rating LO.

EIS No. 20060399, ERP No. D-USA-D11040-VA, Fort Lee, Virginia and Fort A. P. Hill, Virginia Project, Implementation of Base Closure and Realignment (BRAC) Recommendations and Other Army Actions, Prince George County, Petersburg, Virginia Hopewell, Virginia; Caroline County, Essex County, VA.

Summary: EPA expressed environmental concern about wetlands, natural habitats, wildlife, noise, and water resources impacts at Fort Lee.

Rating EC2.

EIS No. 20060416, ERP No. D-NOA-E91017-00, Gulf of Mexico Red Snapper Total Allowable Catch and Reduce Bycatch in the Gulf of Mexico Directed and Shrimp Trawl Fisheries, To Evaluate Alternatives, Gulf of Mexico.

Summary: EPA does not object to the proposed action.

Rating LO.

Final EISs

EIS No. 20060341, ERP No. F-AFS-L65483-ID, Three Basins Timber Sale Project, Proposal to Treat 760 Acres of Mature Forest, Implementation, Caribou-Targhee National Forest, Montpellier Ranger District, Bearlake and Caribou Counties, ID.

Summary: EPA's previous issues have been resolved; therefore, EPA does not object to the proposed action.

EIS No. 20060417, ERP No. F-COE-C40162-NJ, NJ-92 Project, New Jersey Turnpike Authority, Transportation Improvement from East-West Highway Link connecting U.S. Route 1 in South Brunswick Township with the New Jersey Turnpike at Interchange 8A in Monroe Township, Middlesex County, NJ.

Summary: EPA recommended that the Corps consider several issues in its upcoming permitting evaluation and decision document, i.e., issues regarding the alternatives screening process, impacts to surface water, wetlands mitigation and air quality regional emissions analysis.

EIS No. 20060421, ERP No. F-AFS-L65487-OR, Blue Mountain Land Exchange—Oregon Project, Proposed Exchange of Federal and Non-Federal Lands, Malheur, Umatilla, and Wallowa-Whitman National Forests, Baker, Grant, Morrow, Umatilla, Union and Wallowa Counties, OR.

Summary: The Final EIS addressed EPA's concerns; therefore, EPA does not object to the proposed action.

Dated: November 28, 2006.
Dawn R. Roberts,
Management Analyst, Office of Federal Activities.

[FR Doc. E6-20350 Filed 11-30-06; 8:45 am]

BILLING CODE 6560-50-P